ENVIRONMENTAL PROTECTION AGENCY

[OEI-2002-0011; FRL-7469-4]

Agency Information Collection Activities; Submission of EPA ICR No. 2083.01 to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Estimating the Value of Improvements to Coastal Waters—A Pilot Study of A Coastal Water Valuation Survey. The ICR describes the nature of the information collection and its estimated burden and cost.

DATES: Additional comments may be submitted on or before April 18, 2003.

ADDRESSES: Follow the detailed instructions in SUPPLEMENTARY INFORMATION.

FOR FURTHER INFORMATION CONTACT: Dr. Nicole Owens, National Center for Environmental Economics, Office of Policy, Economics, and Innovation, Mail Code 1809T, Environmental Protection Agency, 1200 Pennsylvania Ave., NW., Washington, DC 20460; telephone number: (202) 566-2302; fax number: (202) 566-2338; e-mail address: owens.nicole@epa.gov.

SUPPLEMENTARY INFORMATION: EPA has submitted the following ICR to OMB for review and approval according to the procedures prescribed in 5 CFR 1320.12. On June 28, 2002 (67 FR 43592), EPA sought comments on this ICR pursuant to 5 CFR 1320.8(d). EPA received no comments.

EPA has established a public docket for this ICR under Docket ID No. OEI 2002-0011, which is available for public viewing at the Office of Environmental Information (OEI) Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OEI Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to oei.docket@epa.gov, or by mail to: EPA Docket Center, Environmental Protection Agency, Mailcode: 28221T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Estimating the Value of Improvements to Coastal Waters—A Pilot Study of A Coastal Valuation Survey (EPA ICR Number 2083.01). This is a request for a new collection.

Abstract: This Information Collection Request (ICR) is for a pilot survey being conducted by the Environmental Protection Agency's (EPA) National Center for Environmental Economics (NCEE). The purpose of the pilot survey is to conduct research on and test various aspects of a computerized stated preference survey designed to estimate willingness to pay for water quality improvements in coastal waters. Specifically, we will:

• Test the quality and effectiveness of the computerized survey instrument in yielding robust estimates for both use and non-use values of improvements to coastal water quality;

• Test the effect of the use of color in computerized survey instruments;

• Test the appropriateness of the design values used in the choice questions;

• Test the effect of a $5 incentive on the response rate;

• Test the effectiveness of the survey administration mode for periodic, panel surveys, and

• Test the effectiveness of the survey administration mode for environmental surveys.

The subject of the survey was chosen for a variety of reasons. First, at this time, no suitable information exists that will allow the estimation of the benefits of statewide or national changes in coastal water quality. Existing studies focus on estimating recreational (use) values for very specific reaches of coastal waters, thus limiting the use of the resulting estimates for benefit transfer and ignoring non-use values completely (e.g., Parsons et al. (2000) and Koaru, 1995). Second, the results of this survey will complement those from an ongoing freshwater quality survey (USEPA, 2000). Currently, States, tribes, and other jurisdictions measure water quality by determining if water bodies are clean enough to support basic uses, such as swimming, fishing, and aquatic life. In keeping with these definitions of water quality, the survey will provide estimates of willingness to pay (WTP) for more fishable and swimmable coastal and estuarine waters as well as healthier marine and estuarine aquatic environments. In the valuation portion of the survey, respondents will be asked a series of five questions in which they are asked to compare two programs with the status quo. The programs each affect water quality for the various uses in different ways and cost varying amounts to implement. Analysis of the resulting data will yield WTP estimates for improvements to each of the attributes.

Further development of the survey cannot be completed without a pilot survey. The pilot survey will take place in California using a computerized survey instrument. The survey instrument is specific to the state of California and, depending upon the results of the pilot survey, may be used to estimate willingness to pay for water quality improvements for the three specific uses noted above. Once the pilot survey is complete and EPA is convinced of the adequacy of the questionnaire, EPA's National Center for Environmental Economics hopes to develop parallel versions of the survey instrument for the remaining 20 coastal states in the contiguous United States as well as a version for inland states. The coastal state versions of the survey will elicit resident's willingness to pay for coastal water improvements within the respondent's home state. The inland version of the survey will elicit willingness to pay for coastal water improvements generally. Together these data will provide valuable information to estimate improvements to coastal waters that may improve the quality of cost-benefit analyses and decision-making at EPA.

The pilot survey is designed to collect information using Knowledge Networks, a survey research firm with a pre-recruited panel of individuals throughout the United States who complete surveys using WebTV. We are requesting permission to conduct a pilot survey of 600 respondents in California. It should be noted, however, that no expectations have been formed regarding the administration mode for future pilots or surveys using this or parallel survey instruments. While we expect to continue using a self-administered computerized format, we plan to explore alternative modes of administration.

The only burden imposed by the pilot survey on respondents will be the time required to complete the survey. Based upon a limited number of cognitive pretest interviews, the survey developers estimate that this will involve an average of 30 minutes per respondents. With a total of 600 respondents for the pilot survey this involves a total of 150 hours. Based on an average hourly rate of $22.15 (including employer costs of all employee benefits), the survey developers expect that the average per-respondent cost for the pilot survey will be $11.08 and the corresponding one-time total cost to all respondents will be $6645.00. This information collection does not involve any special equipment, thus, respondents will not incur any capital or operation and maintenance (O&M) costs.

Responses to the pilot survey will be voluntary. Typically, panel members are free to choose whether or not to respond to any particular survey as long as they meet survey quotas set in their agreement with the research firm. The survey will fully conform to federal regulations—specifically the Privacy Act of 1974 (5 U.S.C. 552a), the Hawkins-Stafford Amendments of 1988 (Pub. L. 100-297), and the Computer Security Act of 1987.

The pilot survey data will be collected and stored electronically by the survey research firm, and all identifying information will be removed by the survey research firm prior to transfer to EPA. EPA will perform all data analyses used to determine the efficacy of this survey instrument for estimating the values associated with improved coastal water quality.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average ½ hour per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Individuals living in the State of California.

Estimated Number of Respondents: 600.

Frequency of Response: 1.

Estimated Total Annual Hour Burden: 300 hours.

Estimated Total Annual Cost: $6645, includes $0 annualized capital or O&M costs.

Dated: March 3, 2003.
Oscar Morales,
Director, Collection Strategies Division.

[FR Doc. 03-6579 Filed 3-18-03; 8:45 am]

BILLING CODE 6560-50-P